DEPARTMENT OF EDUCATION

Applications for New Awards; School Climate Transformation Grant Program—Local Educational Agency Grants

AGENCY: Office of Elementary and Secondary Education, Department of Education.

ACTION: Notice; correction.

SUMMARY: On June 10, 2019, we published in the Federal Register a notice inviting applications (NIA) for new awards for fiscal year (FY) 2019 for the School Climate Transformation Grant Program—Local Educational Agency Grants (SCTG-LEA), Catalog of Federal Domestic Assistance (CFDA) number 84.184G. We inadvertently omitted a phrase in Absolute Priority 2. We are correcting Absolute Priority 2 and Absolute Priority 4, which repeats the language from Absolute Priority 2. The deadline for the transmittal of applications continues to be July 22, 2019. Instructions for submitting an application can be found in the NIA.

DATES: This correction is applicable June 20, 2019.

FOR FURTHER INFORMATION CONTACT: Carlette KyserPegram. Telephone: (202) 453-6732. Email: LEA.SCTG19@ed.gov.

If you use a telecommunications device for the deaf (TDD) or a text telephone (TTY), call the Federal Relay Service (FRS), toll free, at 1-800-877-8339.

SUPPLEMENTARY INFORMATION: On June 10, 2019, we published in the Federal Register a notice inviting applications for new awards for FY 2019 for SCTG-LEA grants (84 FR 26829). In the NIA, we inadvertently omitted a phrase in Absolute Priority 2. In number (2) under Absolute Priority 2, we are adding the words “or more” after “one” and changing the word “Tribe” to “Tribes” to reflect the possible plural use so that number (2) will read: “(2) it predominantly serves members of one or more federally recognized Tribes.” In addition, we are revising Absolute Priority 4 to match the updated language in Absolute Priority 2.

Corrections

In FR Doc. 2019-12101 appearing on page 26829 in the Federal Register of June 10, 2019, the following corrections are made:

1. On page 26830, in the third paragraph of the middle column, revise Absolute Priority 2 so that number (2) reads as follows:

(2) It predominantly serves members of one or more federally recognized Tribes.

2. On page 26830, in the seventh paragraph of the middle column, revise Absolute Priority 4 to read as follows:

An LEA meets this absolute priority if it indicates in its application that it is not a rural LEA, as defined in this notice, does not serve a Qualified Opportunity Zone, and does not predominantly serve members of one or more federally recognized Tribes.

Program Authority: Subpart 3 of Title IV, Part F of the ESEA (20 U.S.C. 7281).

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at this site.

You may also access documents of the Department published in the Federal Register by using the article search feature at www.federalregister.gov. Specifically, through the advanced search feature at this site, you can limit your search to documents published by the Department.

Dated: June 17, 2019.
Frank T. Brogan,
Assistant Secretary for Elementary and Secondary Education.

[FR Doc. 2019-13090 Filed 6-19-19; 8:45 am]

BILLING CODE 4000-01-P